DEPARTMENT OF THE INTERIOR

Bureau of Land Management

[LLWY920000. 16XL5017AR. L57000000.RB0000]

Notice of Proposed Reinstatement of Terminated Oil and Gas Lease WYW179123, Wyoming

AGENCY: Bureau of Land Management, Interior

ACTION: Notice.

SUMMARY: Per the Mineral Leasing Act of 1920, Douglas C. McLeod filed a petition for reinstatement of competitive oil and gas lease WYW179123 for land in Crook County, Wyoming. The petition was filed on time, and the lessee paid the required rentals accruing from the date of termination. No leases that affect these lands were issued before the petition was filed.

FOR FURTHER INFORMATION CONTACT: Chris Hite, Chief of Fluid Minerals Adjudication, Bureau of Land Management, Wyoming State Office, 5353 Yellowstone Road, Cheyenne, Wyoming, 82009; phone 307-775-6176; email chite@blm.gov. Persons who use a telecommunications device for the deaf may call the Federal Information Relay Service (FIRS) at 1-800-877-8339 to contact Mr. Hite during normal business hours. The FIRS is available 24 hours a day, 7 days a week, to leave a message or question with the above individual. You will receive a reply during normal business hours.

SUPPLEMENTARY INFORMATION: The lessee agreed to the amended lease terms for rentals and royalties at rates of $10 per acre, or fraction thereof, per year and 16⅔ percent, respectively. The lessee also agreed to the amended lease stipulations described in the associated Reinstatement Certification. The lessee has paid the required $500 administrative fee and the $159 cost for publishing this notice. The lessee met the requirements for reinstatement of the lease per Sec. 31(d) and (e) of the Mineral Leasing Act of 1920. The BLM proposes to reinstate the lease effective July 1, 2012, under the original terms and conditions of the lease and the increased rental and royalty rates cited above.

Chris Hite,
Chief, Branch of Fluid Minerals Adjudication.

[FR Doc. 2016-06570 Filed 3-22-16; 8:45 am]

BILLING CODE 4310-22-P